DEPARTMENT OF DEFENSE

Department of the Army

Proposed Collection; Comment Request

AGENCY: Department of the Army, DOD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by April 9, 2002.

ADDRESSES: Written comments and recommendations on the proposed information collection should be sent to the U.S. Total Army Personnel Command, Officer Personnel Management Directorate, 200 Stovall Street, Alexandria, Virginia 22332-0314. ATTN: TAPC-OPD-C (Annette Bush). Consideration will be given to all comments received within 60 days of the date of publication of this notice.

FOR FURTHER INFORMATION CONTACT: To request more information on this proposed information or to obtain a copy of the proposal and associated collection instruments, please write to the above address, to call Department of the Army Reports clearance officer at (703) 692-1451.

Title, Associated Form, and OMB Number: Application and Contract for Establishment of a Junior Reserve Officer's Training Corps (JROTC) Unit, DD Form 3126, OMB Control Number 0702-0021.

Needs and Uses: Educational institutions desiring to host a Junior ROTC Unit may apply by using DA Form 3126. The form documents the agreement and becomes a contract signed by both the institution and the U.S. Government. The DA Form 3126 provides information on the school's facilities and states specific conditions, if a JROTC Unit is placed at the institution. The data provided is used to determine which schools are selected.

Affected Public: Not-For-Profit Institutions.

Annual Burden Hours: 70.

Number of Respondents: 70.

Responses per Respondents: 1.

Average Burden per Response: 1 hour.

Frequency: On occasion.

SUPPLEMENTARY INFORMATION: Region commanders are responsible for operating and administering the JROTC training conducted within their areas.

Completed DA 3126 forms are submitted to the regional ROTC commanders. Data provided on the application is used to determined which schools are selected and addresses such factors as: (1) Receipt of signed applications and agreements; (2) enrollment potential; (3) capacity of the institution to conduct the program; (4) accreditation status; (5) ability to comply with statutory and contractual requirements; and (6) fair and equitable distributions of units throughout the nation.

Luz D. Ortiz,
Army Federal Register Liaison Officer.

[FR Doc. 02-3086 Filed 2-7-02; 8:45 am]

BILLING CODE 3710-08-M